DEPARTMENT OF AGRICULTURE

Forest Service

Juneau Resource Advisory Committee

AGENCY: Forest Service, USDA.

ACTION: Notice of meeting.

SUMMARY: The Juneau Resource Advisory Committee will meet in Juneau, AK. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review project proposals.

DATES: The meeting will be held August 26, 2011, 8 a.m. to 12 p.m.

ADDRESSES: The meeting will be held at Juneau Ranger District, 8510 Mendenhall Loop Road, Juneau, AK 99801.

Written comments may be submitted as described under SUPPLEMENTARY INFORMATION. All comments, including names and addresses when provided, are placed in the record and are available for public inspection and copying. The public may inspect comments received at Juneau Ranger District. Please call ahead to (907) 586-8800 to facilitate entry into the building to view comments.

FOR FURTHER INFORMATION CONTACT: Hannah Atadero, RAC Coordinator, (907) 586-8879, hatadero@fs.fed.us.

Individuals who use telecommunication devices for the deaf (TDD) may call the Federal Information Relay Service (FIRS) at 1-800-877-8339 between 8 a.m. and 8 p.m., Eastern Standard Time, Monday through Friday. Requests for reasonable accommodation for access to the facility or procedings may be made by contacting the person listed FOR FURTHER INFORMATION CONTACT.

SUPPLEMENTARY INFORMATION: The following business will be conducted:

(1) Review of project proposals for recommendation to Forest Supervisor. Anyone who would like to bring related matters to the attention of the committee may file written statements with the committee staff before or after the meeting. The agenda will include time for people to make oral statements of three minutes or less. Individuals wishing to make an oral statement should request in writing by August 15, 2011 to be scheduled on the agenda. Written comments and requests for time for oral comments must be sent to 8510 Mendenhall Loop Road, Juneau, AK 99801, or by e-mail to hatadero@fs.fed.us, or via facsimile to (907) 586-7090. A summary of the meeting will be posted at https://fsplaces.fs.fed.us/fsfiles/unit/wo/secure_rural_schools.nsf/RAC/Juneau?OpenDocument within 21 days of the meeting.

Dated: August 2, 2011.
Marti M. Marshall,
Designated Federal Official.

[FR Doc. 2011-20350 Filed 8-9-11; 8:45 am]

BILLING CODE 3410-11-P